DEPARTMENT OF HEALTH AND HUMAN SERVICES

Administration for Children and Families

Office of Refugee Resettlement; Notice of Change of Eligibility

AGENCY: Administration for Children and Families (ACF), HHS.

ACTION: Notice of change of eligibility period.

SUMMARY: In accordance with ORR regulations, the Director of ORR is announcing the shortening of the Refugee Cash Assistance (RCA) and Refugee Medical Assistance (RMA) eligibility period from 12 months to four months of assistance for participants who become eligible for ORR benefits 45 days after publication of this notice. For 30 years, ORR had not increased the RCA and RMA eligibility period. In 2022, during a surge in refugee admissions, ORR increased the eligibility period from eight months to 12 months. ORR has determined that it must shorten the RCA and RMA eligibility period to four months to avoid a significant budget shortfall.

DATES: The changes described in this Federal Register notice are effective 45 days after the date of publication—exceeding the minimum permitted by 45 CFR 400.211(b).

FOR FURTHER INFORMATION CONTACT: Colleen Mahar-Piersma, Refugee Policy Unit, Division of Policy and Procedures, Office of the Director, Office of Refugee Resettlement, Administration for Children and Families, by phone at (202) 260-5493, and email at refugeepolicy@acf.hhs.gov.

SUPPLEMENTARY INFORMATION: The 1980 Refugee Act (8 U.S.C. 1522(e)(1)) authorized the Director of ORR (hereinafter “the Director”) to provide RCA and RMA during the first 36 months after a refugee's arrival in the United States. For the first two years, ORR provided refugees with RCA and RMA for the first 36 months after a refugee's arrival. Thereafter, due to reduced appropriations, ORR had to decrease this assistance, first to 18 months, then to 12 months, and finally, in FY 1992, to eight months. RCA and RMA remained at eight months until FY 2022. In FY 2022, ORR expanded the RCA and RMA eligibility period to 12 months. However, ORR is unable to sustain this expansion based on current and projected congressional appropriations and the number of refugees eligible for RCA and RMA. Accordingly, the time-eligibility period for RCA and RMA will be changed to four months.

Prior to 1993, ORR would change the text in the Code of Federal Regulations each time it changed the number of months for cash and medical assistance. In 1993, ORR drafted regulations removing the specific duration of RCA and RMA from the regulatory text and instead added 45 CFR 400.211(a) establishing a methodology by which the Director to determines the time-eligibility period for RCA and RMA each year based on the appropriated funds available for the fiscal year. 58 FR 64499 (Dec. 8, 1993). The preamble explained that the methodology in the regulation was the substantive rule regarding how to determine RCA and RMA duration but future determinations of the actual months using the methodology would be interpretive rules. Id.

In recent years, annual refugee admissions have been high, resulting in an expanding pool of refugees and other eligible populations in need of services. As of March 3, 2025, approximately 109,800 refugees and other eligible populations have been resettled in the U.S. since October 1, 2024. In addition, approximately 714,000 ORR-eligible individuals were admitted to the U.S. in FY 2024. The open border policies of the Biden Administration have caused budgetary shortfalls, requiring supplemental appropriations or transfers from other essential programs each year since FY2022. In fiscal year 2024, Congress decreased appropriations for Refugee and Entrant Assistance by more than 35% The level of funds appropriated for services has not kept pace with arrivals over the past two years, making it difficult to serve all refugees in need of services with available resources. Pursuant to 45 CFR 400.211, ORR calculated the costs of providing RCA and RMA to current recipients and the estimated number of future recipients at 12, nine, eight, six, and four months, and determined that it must shorten the period of eligibility for RCA and RMA to four months.

ORR acknowledges the reasoning articulated in its March 28, 2022, notice expanding the eligibility period for RCA and RMA. 87 FR 17312. Namely, that a longer eligibility period would “positively impact refugees” by allowing them to address medical and mental health conditions in order to become self-sufficient and allowing them to focus on learning English and secure employment. Id. at 17312-13. But such reasoning is not a basis to stay with the 12-month eligibility period, due to both legal considerations and practical considerations. First, the determination of the eligibility period is, by ORR's own regulation, supposed to be straightforwardly derived from the available appropriations. 45 CFR 400.211(a); see also 58 FR at 64502. Second, as a practical reality, the beneficial effects referenced in the 2022 notice must be weighed against resource constraints. As explained above, budget shortfalls require an adjustment of the eligibility period in order to ensure adequate coverage of the entire population of ORR-eligible individuals. Furthermore, the effective date of this notice has been set to account for reliance interests, in that the new eligibility period will only come into effect for those individuals who become eligible in the future.

Refugees whose date of eligibility for ORR benefits is on or after 45 days following publication of this notice are subject to the shortened RCA and RMA eligibility period.

(Authority: 45 CFR 400.211)

Angie Salazar,
Acting Director, Office of Refugee Resettlement.

[FR Doc. 2025-04839 Filed 3-20-25; 8:45 am]

BILLING CODE 4184-45-P